ENVIRONMENTAL PROTECTION AGENCY

40 CFR Part 81

[EPA-R09-OAR-2024-0553; FRL-12419-01-R9]

Finding of Failure To Attain and Reclassification of Las Vegas Area as Serious for the 2015 Ozone National Ambient Air Quality Standards

AGENCY: Environmental Protection Agency (EPA).

ACTION: Final determination.

SUMMARY: The Environmental Protection Agency (EPA) is determining that the Las Vegas, Nevada area failed to attain the 2015 ozone national ambient air quality standards (NAAQS or “standards”) by the applicable attainment date. The effect of failing to attain by the applicable attainment date is that the area will be reclassified by operation of law from “Moderate” to “Serious” nonattainment for the 2015 ozone NAAQS on January 21, 2025, the effective date of this final rule. This action fulfills the EPA's obligation under the Clean Air Act (CAA) to determine whether the Las Vegas, Nevada ozone nonattainment area attained the NAAQS by the attainment date and to publish a document in the Federal Register identifying the area as having failed to attain and identifying the reclassification.

DATES: This final rule is effective on January 21, 2025.

ADDRESSES: The EPA has established a docket for this action under Docket ID No. EPA-R09-OAR-2024-0553. All documents in the docket are listed on the https://www.regulations.gov website. Although listed in the index, some information is not publicly available, e.g., Confidential Business Information (CBI) or other information whose disclosure is restricted by statute. Certain other material, such as copyrighted material, is not placed on the internet and will be publicly available only in hard copy form. Publicly available docket materials are available through https://www.regulations.gov, or please contact the person identified in the FOR FURTHER INFORMATION CONTACT section for additional availability information. If you need assistance in a language other than English or if you are a person with a disability who needs a reasonable accommodation at no cost to you, please contact the person identified in the FOR FURTHER INFORMATION CONTACT section.

FOR FURTHER INFORMATION CONTACT: Lindsay Wickersham, EPA Region IX, 75 Hawthorne St., San Francisco, CA 94105. By phone: (415) 947-4192, or by email at wickersham.lindsay@epa.gov.

SUPPLEMENTARY INFORMATION:

Table of Contents

I. Overview of Action

II. What is the background for this action?

III. What is the statutory authority for this action?

IV. How does the EPA determine whether an area has attained the standards?

V. What is the EPA's determination for the area?

VI. What action is the EPA taking?

VII. Statutory and Executive Order Reviews

I. Overview of Action

The EPA is required to determine whether areas designated nonattainment for an ozone NAAQS attained the standards by the applicable attainment date, and to take certain steps for areas that failed to attain (see CAA section 181(b)(2)). The EPA's determination of attainment for the 2015 ozone NAAQS is based on a nonattainment area's design value (DV) as of the attainment date.¹

¹ A DV is a statistic used to compare data collected at an ambient air quality monitoring site to the applicable NAAQS to determine compliance with the standard. The data handling conventions for calculating DVs for the 2015 ozone NAAQS are specified in appendix U to 40 CFR part 50. The DV for the 2015 ozone NAAQS is the 3-year average of the annual fourth highest daily maximum 8-hour average ozone concentration. The DV is calculated for each air quality monitor in an area, and the DV for an area is the highest DV among the individual monitoring sites located in the area.

The 2015 ozone NAAQS is met at an EPA regulatory monitoring site when the DV does not exceed 0.070 parts per million (ppm). For the Moderate nonattainment areas for the 2015 ozone NAAQS addressed in this action, the attainment date was August 3, 2024. Because the DV is based on the three most recent, complete calendar years of data, attainment must occur no later than December 31 of the year prior to the attainment date (i.e., December 31, 2023, in the case of Moderate nonattainment areas for the 2015 ozone NAAQS). As such, the EPA's determinations for each area are based upon the complete, quality-assured, and certified ozone monitoring data from calendar years 2021, 2022, and 2023.

This action addresses one area in Nevada that was classified as Moderate for the 2015 ozone NAAQS as of the Moderate area attainment date of August 3, 2024. The EPA is addressing the remaining areas in other states in separate actions. Table 1 provides the DV and the EPA's air quality-based determination for the Moderate area addressed in this action.

Table 1—Summary of Nonattainment Area in Nevada Classified as Moderate for the 2015 Ozone NAAQS
Nonattainment area | 2021-2023 DV (ppm) | Attainment by the attainment date
Las Vegas, NV | 0.074 | Failed to attain.
Source: AMP480_LasVegas_DesignValueReport_2021_2023.

The EPA is finding that the Moderate area listed in Table 1 did not attain by its attainment dates because their 2021-2023 DVs are greater than 0.070 ppm. If the EPA determines that a nonattainment area classified as Moderate failed to attain by the attainment date, CAA section 181(b)(2)(B) requires the EPA to publish a notice in the Federal Register, no later than 6 months following the attainment date, identifying each such area and identifying the applicable reclassification.

Under CAA section 181(b)(2)(A), the effect of this determination is that this area will be reclassified by operation of law as Serious on the effective date of this final rule. The reclassified area will then be subject to the Serious area requirement to attain the 2015 ozone NAAQS as expeditiously as practicable, but not later than August 3, 2027.

Once reclassified as Serious, the relevant state must submit to the EPA the SIP revisions for this area that satisfy the statutory and regulatory requirements applicable to Serious areas established in CAA section 182(c) and in the EPA's implementing regulations for the 2015 ozone NAAQS.² The EPA is establishing deadlines for submitting SIP revisions for this reclassified area in a separate action.³

² 83 FR 62998, “Implementation of the 2015 National Ambient Air Quality Standards for Ozone: Nonattainment Area State Implementation Plan Requirements” (December 6, 2018).

³ See proposed rule at 89 FR 80833 (October 4, 2024).

II. What is the background for this action?

On October 26, 2015, the EPA issued its final action to revise the NAAQS for ozone to establish new 8-hour standards.⁴ In that action, the EPA promulgated identical tighter primary and secondary ozone standards designed to protect public health and welfare that specified an 8-hour ozone level of 0.070 ppm. Specifically, the standards require that the 3-year average of the annual fourth highest daily maximum 8-hour average ozone concentration may not exceed 0.070 ppm.

⁴ 80 FR 65452.

Effective on August 3, 2018, the EPA designated 52 areas throughout the country as nonattainment for the 2015 ozone NAAQS.⁵ In a separate action, the EPA assigned classification thresholds and attainment dates based on the severity of an area's ozone problem, determined by the area's DV.⁶ The EPA established the attainment date for “Marginal,” Moderate, and Serious nonattainment areas as three years, six years, and nine years, respectively, from the effective date of the final designations. Thus, the attainment date for Marginal nonattainment areas for the 2015 ozone NAAQS was August 3, 2021, the attainment date for Moderate areas was August 3, 2024, and the attainment date for Serious areas is August 3, 2027. On January 3, 2023, the EPA determined that the Las Vegas, NV area addressed in this action did not attain the standards by the Marginal attainment date, reclassifying the area as Moderate by operation of law.⁷

⁵ 83 FR 25776 (June 4, 2018).

⁶ 83 FR 10376 (March 9, 2018).

⁷ 88 FR 775.

III. What is the statutory authority for this action?

The statutory authority for these determinations is provided by the CAA, as amended (42 U.S.C. 7401 et seq.). Relevant portions of the CAA include, but are not necessarily limited to, sections 181 and 182.

CAA section 107(d) provides that when the EPA establishes or revises a NAAQS, the agency must designate areas of the country as nonattainment, attainment, or unclassifiable based on whether an area is not meeting (or is contributing to air quality in a nearby area that is not meeting) the NAAQS, meeting the NAAQS, or cannot be classified as meeting or not meeting the NAAQS, respectively. Subpart 2 of part D of title I of the CAA governs the classification, state planning, and emissions control requirements for any areas designated as nonattainment for a revised primary ozone NAAQS. In particular, CAA section 181(a)(1) requires each area designated as nonattainment for a revised ozone NAAQS to be classified at the same time as the area is designated based on the extent of the ozone problem in the area (as determined based on the area's DV). Classifications for ozone nonattainment areas are “Marginal,” “Moderate,” “Serious,” “Severe,” and “Extreme,” in order of stringency. CAA section 182 provides the specific attainment planning and additional requirements that apply to each ozone nonattainment area based on its classification.

Section 181(b)(2)(A) of the CAA requires that within six months following the applicable attainment date, the EPA shall determine whether an ozone nonattainment area attained the ozone standard based on the area's DV as of that date. Under CAA section 181(a)(5) as interpreted by the EPA in 40 CFR 51.1307, upon application by any state, the EPA may grant a 1-year extension to the attainment date when certain criteria are met. One criterion for a first attainment date extension is that an area's fourth highest daily maximum 8-hour value for the attainment year must not exceed the level of the standard.

In the event an area fails to attain the ozone NAAQS by the applicable attainment date and is not granted a 1-year attainment date extension, CAA section 181(b)(2)(A) requires the EPA to make the determination that an ozone nonattainment area failed to attain the ozone standard by the applicable attainment date, and requires the area to be reclassified by operation of law to the higher of: (1) The next higher classification for the area, or (2) the classification applicable to the area's DV as of the determination of failure to attain.⁸ Section 181(b)(2)(B) of the CAA requires the EPA to publish the determination of failure to attain and accompanying reclassification in the Federal Register no later than six months after the attainment date, which, in the case of the Moderate nonattainment area considered in this determination, is February 3, 2025.

⁸ Las Vegas, Nevada will be classified to the next higher classification, Serious because it does not have a DV that would otherwise place it in a higher classification.

Once an area is reclassified, each state that contains a reclassified area is required to submit certain SIP revisions in accordance with its more stringent classification. The SIP revisions are intended to, among other things, demonstrate how the area will attain the NAAQS as expeditiously as practicable, but no later than August 3, 2027 (the Serious area attainment date for the 2015 ozone NAAQS). Per CAA section 182(i), a state with a reclassified ozone nonattainment area must submit the applicable attainment plan requirements “according to the schedules prescribed in connection with such requirements” in CAA section 182(c) for Serious areas, but the EPA “may adjust applicable deadlines (other than attainment dates) to the extent such adjustment is necessary or appropriate to assure consistency among the required submissions.” The EPA is addressing the SIP revision and implementation deadlines for newly reclassified Serious areas, as well as the continued applicability of Moderate area requirements that these areas may not yet have met, in a separate rulemaking.⁹

⁹ See proposed rule at 89 FR 80833.

IV. How does the EPA determine whether an area has attained the standards?

The level of the 2015 ozone NAAQS is 0.070 ppm.¹⁰ Under the EPA regulations at 40 CFR part 50, appendix U, the 2015 ozone NAAQS is attained at a site when the 3-year average of the annual fourth highest daily maximum 8-hour average ambient ozone concentration (i.e., DV) does not exceed 0.070 ppm. When the DV does not exceed 0.070 ppm at each ambient air quality monitoring site within the area, the area is deemed to be attaining the ozone NAAQS. Each area's DV is determined by the highest DV among monitors with valid DVs.¹¹ The data handling convention in appendix U dictates that concentrations shall be reported in “ppm” to the third decimal place, with additional digits to the right being truncated. Thus, a computed 3-year average ozone concentration of 0.071 ppm is greater than 0.070 ppm and would exceed the standards, but a computed 3-year average ozone concentration of 0.0709 ppm is truncated to 0.070 ppm and attains the 2015 ozone NAAQS.

¹⁰ See 40 CFR 50.19.

¹¹ According to appendix U to 40 CFR part 50, ambient monitoring sites with a DV of 0.070 ppm or less must meet minimum data completeness requirements in order to be considered valid. These requirements are met for a 3-year period at a site if daily maximum 8-hour average ozone concentrations are available for at least 90% of the days within the ozone monitoring season, on average, for the 3-year period, with a minimum of at least 75% of the days within the ozone monitoring season in any one year. Ozone monitoring seasons are defined for each State in appendix D to 40 CFR part 58. DVs greater than 0.070 ppm are considered to be valid regardless of the data completeness.

The EPA's determination of attainment is based upon hourly ozone concentration data for calendar years 2021, 2022, and 2023 that have been collected and quality-assured in accordance with 40 CFR part 58 and reported to the EPA's Air Quality System (AQS) database.¹²

¹² The EPA maintains the AQS, a database that contains ambient air pollution data collected by the EPA, state, local, and tribal air pollution control agencies. The AQS also contains meteorological data, descriptive information about each monitoring station (including its geographic location and its operator) and data quality assurance/quality control information. The AQS data is used to (1) assess air quality, (2) assist in attainment/non-attainment designations, (3) evaluate SIPs for non-attainment areas, (4) perform modeling for permit review analysis, and (5) prepare reports for Congress as mandated by the CAA. Access is through the website at https://www.epa.gov/aqs.

State and local monitoring network plans are subject to approval by the EPA on an annual basis, and any interim modifications to those plans must also be approved by the EPA.¹³ The annual monitoring network plan process is provided in 40 CFR 58.10 and the requirements governing system modifications and monitor discontinuations are laid out in 40 CFR 58.14. Where state or local agencies seek to modify the ambient air quality monitoring networks by discontinuing a monitor station, the EPA may approve such modifications subject to the criteria established in 40 CFR 58.14(c). The EPA may not approve such discontinuation if doing so would compromise data collection needed for implementation of a NAAQS. If a monitor has been discontinued subject to 40 CFR 58.14 such that the discontinuation results in insufficient data to calculate a valid DV according to appendix U to 40 CFR part 50, the EPA will determine the applicable area's attainment status based on the remaining monitors in the area.

¹³ Annual monitoring network plans for each state are available at https://www.epa.gov/amtic/state-monitoring-agency-annual-air-monitoring-plans-and-network-assessments. The plans relevant to this action Annual monitoring network plans for each state are available at https://www.epa.gov/amtic/state-monitoring-agency-annual-air-monitoring-plans-and-network-assessments. The plans relevant to this action and the EPA's letters approving those plans are also available in the docket for this action.

V. What is the EPA's determination for the area?

The EPA is determining that the Moderate nonattainment area addressed in this action (Las Vegas, NV) failed to attain the 2015 ozone NAAQS by the attainment date of August 3, 2024. As shown in Table 1 of this notice, at least one monitor had a 2021-2023 DV greater than 0.070 ppm. The EPA has further determined that this area did not meet the requirement under section 181(a)(5)(B) and 40 CFR 51.1307 necessary to grant a 1-year extension of the attainment date because at least one monitor in the Las Vegas area had a 2023 fourth highest daily maximum 8-hour average that was greater than 0.070 ppm. Table 2 of this notice shows the annual fourth highest daily maximum 8-hour average ozone concentration and 2021-2023 DV for each monitor in the Las Vegas area.

Table 2—2021-2023 Fourth Highest Daily Maximum 8-Hour Average Ozone Concentrations and Design Values at All Monitors in the Las Vegas, NV Area
AQS site ID | County | State | Fourth highest daily maximum 8-hour average ozone concentration (ppm): 2021 | Fourth highest daily maximum 8-hour average ozone concentration (ppm): 2022 | Fourth highest daily maximum 8-hour average ozone concentration (ppm): 2023 | 2021-2023 design value (DV) (ppm)
32-003-0044 | Clark | Nevada | 0.075 | 0.073 | 0.074 | 0.074
32-003-2003 | Clark | Nevada | 0.074 | 0.073 | 0.071 | 0.072
32-003-0299 | Clark | Nevada | 0.074 | 0.072 | 0.069 | 0.071
32-003-0075 | Clark | Nevada | 0.075 | 0.070 | 0.072 | 0.072
32-003-0540 | Clark | Nevada | 0.070 | 0.068 | 0.066 | 0.068
32-003-0043 | Clark | Nevada | 0.074 | 0.074 | 0.071 | 0.073
32-003-0071 | Clark | Nevada | 0.075 | 0.070 | 0.072 | 0.072
32-003-0073 | Clark | Nevada | 0.076 | 0.070 | 0.071 | 0.072
32-003-0298 | Clark | Nevada | 0.072 | 0.067 | 0.071 | 0.070
Source: AMP480_LasVegas_DesignValueReport_2021_2023.

VI. What action is the EPA taking?

Pursuant to CAA section 181(b)(2), the EPA is determining that the Las Vegas, NV area failed to attain the 2015 ozone NAAQS by the applicable attainment date of August 3, 2024. Therefore, upon the effective date of this final action, the area will be reclassified, by operation of law, to Serious for the 2015 ozone NAAQS. Once reclassified as Serious, this area will be required to attain the standards “as expeditiously as practicable” but no later than nine years after the initial designation as nonattainment, which in this case would be no later than August 3, 2027.

Section 553 of the APA, 5 U.S.C. 553(b)(B), provides that, when an agency for good cause finds that notice and public procedures are impracticable, unnecessary or contrary to the public interest, the agency may issue a rule without providing notice and an opportunity for public comment. The EPA has determined that there is good cause for making this final agency action without prior proposal and opportunity for comment because our action to determine whether this area has attained the NAAQS by the attainment date is governed, per CAA section 181(b)(2)(A), solely by area design values as of that date. The area design values relied upon in this notice are calculations based on the certified air quality monitoring data governed by the EPA's regulations and involve no judgment or discretion. Thus, notice and public procedures are unnecessary to take this action. The EPA finds that this constitutes good cause under 5 U.S.C. 553(b)(B).

VII. Statutory and Executive Order Reviews

A. Executive Order 12866: Regulatory Planning and Review, and Executive Order 14094: Modernizing Regulatory Review

This action is not a “significant regulatory action” under the terms of Executive Order 12866 (58 FR 51735, October 4, 1993) and is therefore not subject to review under Executive Order 14094 (88 FR 21879, April 11, 2023).

B. Paperwork Reduction Act (PRA)

This rule does not impose an information collection burden under the provisions of the PRA of 1995 (44 U.S.C. 3501 et seq.). This action does not contain any information collection activities and serves only to make a final determination that the Las Vegas, NV nonattainment area failed to attain the 2015 ozone standards by the August 3, 2024 attainment date. This area will be reclassified as Serious nonattainment for the 2015 ozone standards by operation of law upon the effective date of the final reclassification action.

C. Regulatory Flexibility Act (RFA)

I certify that this action will not have a significant economic impact on a substantial number of small entities under the RFA (5 U.S.C. 601 et seq.). This action will not impose any requirements on small entities. The determination of failure to attain the 2015 ozone standards (and resulting reclassifications), do not in and of themselves create any new requirements beyond what is mandated by the CAA. This final action would require the state to adopt and submit SIP revisions to satisfy CAA requirements and would not itself directly regulate any small entities.

D. Unfunded Mandates Reform Act (UMRA)

This action does not contain any unfunded mandate as described in UMRA, 2 U.S.C. 1531-1538 and does not significantly or uniquely affect small governments. The action imposes no enforceable duty on any state, local or tribal governments or the private sector.

E. Executive Order 13132: Federalism

This action does not have federalism implications. It will not have substantial direct effects on the states, on the relationship between the national government and the states, or on the distribution of power and responsibilities among the various levels of government. The division of responsibility between the Federal government and the states for purposes of implementing the NAAQS is established under the CAA.

F. Executive Order 13175: Consultation and Coordination With Indian Tribal Governments

Executive Order 13175 (65 FR 67249, November 9, 2000), requires the EPA to develop an accountable process to ensure “meaningful and timely input by Tribal officials in the development of regulatory policies that have Tribal implications.”

The EPA has identified a tribal area within the nonattainment area covered by this proposed rule that would be potentially affected by this rulemaking. Specifically, the Las Vegas Tribe of Paiute Indians of the Las Vegas Indian Colony is located within the boundaries of the Las Vegas nonattainment area. The EPA has concluded that this rule may have tribal implications for this tribe for the purposes of Executive Order 13175, but it would not impose substantial direct costs upon the tribes, nor would it preempt tribal law. A tribe that is part of an area that is reclassified from Moderate to Serious nonattainment is not required to submit a tribal implementation plan revision to address new Serious area requirements. However, the nonattainment new source review major source threshold and offset requirements would change for stationary sources seeking preconstruction permits in any nonattainment areas newly reclassified as Serious, including on tribal lands within these nonattainment areas.

The EPA has communicated with the potentially affected tribe located within the boundaries of the nonattainment area addressed in this proposal, including offering government-to-government consultation, as appropriate.¹⁴

¹⁴ See letter dated July 23, 2024 from Matthew Lakin, Director, Air and Radiation Division, EPA Region 9 to the Honorable Benny Tso, Chairman, Las Vegas Tribe of Paiute Indians of the Las Vegas Colony.

G. Executive Order 13045: Protection of Children From Environmental Health and Safety Risks

The EPA interprets Executive Order 13045 (62 FR 19885, April 23, 1997) as applying to those regulatory actions that concern environmental health or safety risks that the EPA has reason to believe may disproportionately affect children, per the definition of “covered regulatory action” in section 2-202 of the Executive Order. This action is not subject to Executive Order 13045 because it does not establish an environmental standard intended to mitigate health or safety risks.

H. Executive Order 13211: Actions That Significantly Affect Energy Supply, Distribution, or Use

This action is not subject to Executive Order 13211 (66 FR 28355, May 22, 2001) because it is not a significant regulatory action under Executive Order 12866.

I. National Technology Transfer and Advancement Act (NTTAA)

This rulemaking does not involve technical standards. Therefore, the EPA is not considering the use of any voluntary consensus standards.

J. Executive Order 12898: Federal Actions To Address Environmental Justice in Minority Populations and Low-Income Populations

Executive Order 12898 (Federal Actions To Address Environmental Justice in Minority Populations and Low-Income Populations, 59 FR 7629, February 16, 1994) directs Federal agencies to identify and address “disproportionately high and adverse human health or environmental effects” of their actions on communities with environmental justice (EJ) concerns to the greatest extent practicable and permitted by law. Executive Order 14096 (Revitalizing Our Nation's Commitment to Environmental Justice for All, 88 FR 25251, April 26, 2023) builds on and supplements Executive Order 12898 and defines EJ as, among other things, the just treatment and meaningful involvement of all people, regardless of income, race, color, national origin, or Tribal affiliation, or disability in agency decision-making and other Federal activities that affect human health and the environment.”

The EPA did not perform an EJ analysis and did not consider EJ in this action. Due to the nature of the action being taken here, this action is expected to have a neutral to positive impact on the air quality of the affected area. Consideration of EJ is not required as part of this action, and there is no information in the record inconsistent with the stated goals of Executive Orders 12898 and 14096 of achieving environmental justice for communities with EJ concerns.

K. Congressional Review Act

This rule is exempt from the CRA because it is a rule of particular applicability. The rule makes factual determinations for an identified entity (the Las Vegas, Nevada area) based on facts and circumstances specific to that entity. Determinations of attainment and failure to attain the 2015 ozone NAAQS do not in themselves create any new requirements beyond what is mandated by the CAA.

L. Judicial Review

Under section 307(b)(1) of the CAA, petitions for judicial review of this action must be filed in the United States Court of Appeals for the appropriate circuit by February 18, 2025. Filing a petition for reconsideration by the Administrator of this action does not affect the finality of this action for the purposes of judicial review nor does it extend the time within which a petition for judicial review may be filed and shall not postpone the effectiveness of this action. This action may not be challenged later in proceedings to enforce its requirements. (See section 307(b)(2).)

List of Subjects in 40 CFR Part 81

Environmental protection, Air pollution control, Intergovernmental relations, Nitrogen dioxide, Ozone, Reporting and recordkeeping requirements, Volatile organic compounds.

Dated: December 5, 2024.
Martha Guzman Aceves,
Regional Administrator, Region IX. Region IX.

For the reasons stated in the preamble, title 40 CFR part 81 is amended as follows:

PART 81—DESIGNATION OF AREAS FOR AIR QUALITY PLANNING PURPOSES

1. The authority citation for part 81 continues to read as follows:

Authority: 42 U.S.C. 7401 et seq.

2. Section 81.329 is amended in the table for “Nevada—2015 8-Hour Ozone NAAQS [Primary and Secondary]” by revising the entry for “Las Vegas, NV: Clark County (part), NV” to read as follows:

§ 81.329 Nevada.

* * * * *

Nevada—2015 8-Hour Ozone NAAQS
[Primary and Secondary]
Designated area ¹ | Designation: Date ² | Designation: Type | Classification: Date ² | Classification: Type
Las Vegas, NV |  | Nonattainment | 1/21/2025 | Serious.
Clark County (part):
That portion of Clark County that lies in hydrographic area 212.³
Las Vegas Tribe of Paiute Indians of the Las Vegas Indian Colony.
* * * * * * *
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is August 3, 2018, unless otherwise noted.
³ Hydrographic areas are shown on the State of Nevada Division of Water Resources' map titled Water Resources and Inter-basin Flows (September 1971).

* * * * *

[FR Doc. 2024-29061 Filed 12-18-24; 8:45 am]

BILLING CODE 6560-50-P